DEPARTMENT OF COMMERCE

International Trade Administration

Exporters' Textile Advisory Committee; Notice of Meeting Postponement

The meeting of the Exporters' Textile Advisory Committee, scheduled for May 8, 2008 in Los Angeles California, has been postponed until further notice

For further information contact Larry Brill at (202) 482-1856.

Dated: April 28, 2008.

R. Matthew Priest,
Chairman, Committee for Implementation of Textile Agreements.

[FR Doc. E8-9723 Filed 5-1-08; 8:45 am]

BILLING CODE 3510-DR-S